DEPARTMENT OF HEALTH AND HUMAN SERVICES

Substance Abuse and Mental Health Services Administration

Fiscal Year (FY) 2013 Funding Opportunity

AGENCY: Substance Abuse and Mental Health Services Administration, HHS.

ACTION: Notice of intent to award a single source grant to the state of Idaho for a Strategic Prevention Framework State Incentive Grant.

SUMMARY: This notice is to inform the public that the Substance Abuse and Mental Health Services Administration (SAMHSA) intends to award $1.5 million (total costs) for up to five years to the state of Idaho for a Strategic Prevention Framework State Incentive Grant. This is not a formal request for applications. Assistance will be provided only to the state of Idaho based on the receipt of a satisfactory application that is approved by an independent review group.

Funding Opportunity Title: SP-13-005.

Catalog of Federal Domestic Assistance (CFDA) Number: 93.243.

Authority: Section 516 of the Public Health Service Act, as amended .

Justification: Eligibility for this SPF SIG award is limited to the state of Idaho, the only state receiving a Substance Abuse Prevention and Treatment Block Grant (SABG) that has never been awarded a SPF SIG grant from SAMHSA. The SPF SIG grant has already allowed 49 states to strengthen and consolidate their prevention systems and build greater capacity in their communities. SAMHSA/CSAP believes that every state must build prevention capacity and infrastructure to prevent the onset and reduce the progression of substance abuse, including childhood and underage drinking, and to reduce substance abuse-related problems across the nation. Following the SPF five-step process, the state of Idaho will have the opportunity to use SPF SIG funds to develop a comprehensive prevention plan at the state level and support a broad range of sub-recipient communities to implement effective programs, policies and practices to reduce substance abuse and its related problems. By giving a SPF SIG to every state, including Idaho, SAMHSA will have effected nationwide, systemic change in preventing the onset and reducing the progression of substance abuse and substance abuse-related problems nationwide.

Contact: Cathy Friedman, Substance Abuse and Mental Health Services Administration, 1 Choke Cherry Road, Room 8-1097, Rockville, MD 20857; telephone: (240) 276-2316; email: cathy.friedman@samhsa.hhs.gov.

Cathy Friedman,
SAMHSA Public Health Analyst.

[FR Doc. 2013-06897 Filed 3-25-13; 8:45 am]

BILLING CODE 4162-20-P